DEPARTMENT OF HEALTH AND HUMAN SERVICES

Office of Global Affairs: Stakeholder Listening Session in Preparation for the G20 Health Working Group Ministers Meeting

ACTION: Notice of public listening session; request for comments.

Time and Date: The listening session will be held on Wednesday, August 9, 2023, from 12 to 2:00 p.m., Eastern Daylight Time.

Place: The session will be held virtually, with online and dial-in information shared with registered participants.

Status: This meeting is open to the public but requires RSVP to oga.rsvp@hhs.gov by August 4, 2023. See RSVP section below for details.

SUPPLEMENTARY INFORMATION:

Purpose: The U.S. Department of Health and Human Services (HHS), with support from relevant health-related U.S. Government offices, is charged with leading the U.S. delegation to the Group of 20 (G20) Health Working Group Ministers' Meeting and will convene an informal Stakeholder Listening Session.

The Stakeholder Listening Session is designed to seek input from stakeholders and subject matter experts to help inform and prepare for U.S. government engagement with the G20 Health Ministers. The G20 comprises 19 countries (Argentina, Australia, Brazil, Canada, China, France, Germany, India, Indonesia, Italy, Japan, Republic of Korea, Mexico, Russia, Saudi Arabia, South Africa, Turkey, United Kingdom and United States) and the European Union. The G20 members represent around 85% of the global GDP, over 75% of the global trade, and about two-thirds of the world population. The G20 is the premier forum for international economic cooperation and plays an important role in shaping and strengthening global architecture and governance on all major international economic issues.

Each year, a different member country holds the presidency of the group and hosts the meetings. The presidency proposes the group's priorities for the year and hosts discussions to work towards consensus positions and actions on those priorities. This year's G20 presidency is India, which will be hosting the Health Working Group Ministers' Meeting on August 18 and 19, 2023.

Matters to be Discussed: The Stakeholder Listening Session will cover priority areas expected to be addressed at the G20 Health Working Group Ministers Meeting. The following have been identified as priorities for the G20 Health Working Group:

Priority I: Health emergencies' prevention, preparedness and response (including a focus on a One Health approach & antimicrobial resistance).

Priority II: Strengthening cooperation on availability of and access to safe, effective, quality and affordable medical countermeasures during health emergencies.

Priority III: Digital health innovations and solutions to aid universal health coverage and improve health care service delivery.

Participation is welcome from all stakeholder communities.

RSVP: Persons seeking to speak at the listening session must register by Friday, August 4, 2023. Persons seeking to attend the listening session in a listen-only capacity must register by Monday, August 7, 2023.

Registrants must include their full name and organization, if any, and indicate whether they are registering as a listen-only attendee or as a speaker participant to oga.rsvp@hhs.gov.

Requests to participate as a speaker must include:

1. The name and email address of the person desiring to participate.

2. The organization(s) that person represents, if any.

3. Identification of the primary topic of interest.

Other Information: Written comments should be emailed to oga.rsvp@hhs.gov with the subject line “Written Comment Re: Stakeholder Listening Session in preparation for the G20 Health Working Group Ministers Meeting” by Friday, August 11, 2023.

We look forward to your comments on U.S. engagement with the G20 Health Working Group Ministers Meeting.

Dated: June 9, 2023.
Susan Kim,
Principal Deputy Assistant Secretary for Global Affairs.

[FR Doc. 2023-13798 Filed 6-28-23; 8:45 am]

BILLING CODE 4150-38-P